FEDERAL COMMUNICATIONS COMMISSION

Notice of Public Information Collection(s) Being Reviewed by the Federal Communications Commission, Comments Requested

November 3, 2004.

SUMMARY: The Federal Communications Commission, as part of its continuing effort to reduce paperwork burden invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 10, 2005. If you anticipate that you will be submitting comments, but find it difficult to do so within the period of time allowed by this notice, you should advise the contact listed below as soon as possible.

ADDRESSES: Direct all Paperwork Reduction Act (PRA) comments to Cathy Williams, Federal Communications Commission, Room 1-C823, 445 12th Street, SW., Washington, DC 20554 or via the Internet to Cathy.Williams@fcc.gov.

FOR FURTHER INFORMATION CONTACT: For additional information or copies of the information collection(s), contact Cathy Williams at (202) 418-2918 or via the Internet at Cathy.Williams@fcc.gov.

SUPPLEMENTARY INFORMATION: OMB Control Number: 3060-0667.

Title: Section 76.630, Compatibility with Consumer Electronic Equipment; section 76.1621, Equipment Compatibility Offer; section 76.1622, Consumer Education of Equipment Compatibility.

Form Number: Not applicable.

Type of Review: Revision of a currently approved collection.

Respondents: Business or other for-profit entities.

Number of Respondents: 8,250.

Estimated Time per Response: 1-3 hours.

Frequency of Response: Recordkeeping requirement; On occasion reporting requirement.

Total Annual Burden: 8,285 hours.

Total Annual Cost: $5,800.

Privacy Impact Assessment: No impact(s).

Needs and Uses: On March 14, 2002, the Commission released an Order, DA 02-577, In the Matter of Establishment of the Media Bureau and Other Organizational Changes, which amended 47 CFR 76.630 to reflect the reorganization of the existing Cable Services and Mass Media Bureaus into a new Media Bureau. 47 CFR 76.1621 of the Commission's rules prohibits cable system operators from scrambling or otherwise encrypting signals carried on the basic service tier. However, cable system operators may file a waiver of this prohibition with the Commission. In addition, § 76.1621 requires cable system operators that use scrambling or encryption equipment to provide subscribers special equipment that will enable the reception of multiple signals. 47 CFR 76.1622 requires cable system operators to provide in writing a consumer education program concerning equipment compatibility. The Commission has set forth these disclosure requirements for consumer protection purposes to inform subscribers of compatibility matters, and notify subscribers of cable operator' requests to waive the prohibition on signal encryption.

Federal Communications Commission.
Marlene H. Dortch,
Secretary.

[FR Doc. 04-25063 Filed 11-9-04; 8:45 am]

BILLING CODE 6712-10-P